DEPARTMENT OF COMMERCE

National Oceanic and Atmospheric Administration

RIN 0648-XD772

Mid-Atlantic Fishery Management Council (MAFMC); Public Meetings

AGENCY: National Marine Fisheries Service (NMFS), National Oceanic and Atmospheric Administration (NOAA), Commerce.

ACTION: Notice of a public meeting.

SUMMARY: The Mid-Atlantic Fishery Management Council (Council) will hold an EMERGENCY public meeting of the Council via webinar regarding blueline tilefish.

DATES: The meeting will be held Wednesday, February 25, 2015, from 1:30 p.m. until 4 p.m. via webinar. For agenda details, see SUPPLEMENTARY INFORMATION.

ADDRESSES: The EMERGENCY meeting will be held via webinar with a telephone-only connection option.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the meeting location, proposed agenda, webinar listen-in access, and briefing materials.

SUPPLEMENTARY INFORMATION: The purpose of the meeting is to consider requesting emergency action by National Marine Fisheries Service under section 305(c) of the Magnuson-Stevens Fishery Conservation and Management Act (Magnuson-Stevens Act) for deepwater snapper/grouper species, including blueline tilefish, within the Mid-Atlantic Fishery Management Council's jurisdiction. Several developments precipitated this request, including:

1. In discussions with NMFS headquarters, the Agency confirmed that the Council can directly request emergency action on these species within our Council's jurisdiction.

2. Council Chairman Rick Robins was contacted by a commercial North Carolina long-liner who indicated that he intends to begin directing on blueline tilefish in June of this year, within our Council's jurisdiction, and intends to land the fish in New Jersey, where there are no landing limits.

3. New Jersey has indicated, preliminarily, that they will not be able to implement state regulations before the fishery begins this summer. Connecticut has also indicated that they will not have regulations in place in time for this year's fishery, if at all.

4. Further communications with the South Atlantic Fishery Management Council staff confirmed that they are scheduled to consider requesting emergency federal action at their March meeting to protect blueline tilefish within the Mid-Atlantic Council's jurisdictional boundaries.

Although non-emergency issues not contained in this agenda may come before this group for discussion, in accordance with the Magnuson-Stevens Act, those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aid should be directed to M. Jan Saunders, (302) 526-5251, at least 5 days prior to the meeting date.

Dated: February 11, 2015.
Tracey L. Thompson,
Acting Deputy Director, Office of Sustainable Fisheries, National Marine Fisheries Service.

[FR Doc. 2015-03126 Filed 2-13-15; 8:45 am]

BILLING CODE 3510-22-P